DEPARTMENT OF TRANSPORTATION

Federal Aviation Administration

14 CFR Part 39

[Docket No. FAA-2007-27983; Directorate Identifier 2006-NM-192-AD; Amendment 39-15188; AD 2007-18-08]

RIN 2120-AA64

Airworthiness Directives; Avions Marcel Dassault-Breguet Model Falcon 10 Airplanes

AGENCY: Federal Aviation Administration (FAA), Department of Transportation (DOT).

ACTION: Final rule.

SUMMARY: The FAA is superseding an existing airworthiness directive (AD), which applies to all Avions Marcel Dassault-Breguet Model Falcon 10 airplanes. That AD currently requires either revising the airplane flight manual (AFM) and installing a placard in the flight deck to prohibit flight into known or forecasted icing conditions, or repetitively inspecting for delamination of the flexible hoses in the wing (slat) anti-icing system and performing corrective actions if necessary. That AD also provides optional terminating action for the repetitive inspections. This new AD mandates the previously optional terminating action. This AD results from a report of in-service delamination of a flexible hose in the slat anti-icing system at a time earlier than previously reported. We are issuing this AD to prevent collapse of the flexible hoses in the slat anti-icing system, which could lead to insufficient anti-icing capability and, if icing is encountered in this situation, could result in reduced controllability of the airplane.

DATES: This AD becomes effective October 11, 2007.

The Director of the Federal Register approved the incorporation by reference of Dassault Service Bulletin F10-313, Revision 1, dated May 10, 2006, as of October 11, 2007.

On September 26, 2005 (70 FR 53540, September 9, 2005), the Director of the Federal Register approved the incorporation by reference of Dassault Alert Service Bulletin F10-A312, Revision 1, dated June 27, 2005, including the Service Bulletins Compliance Card.

On April 26, 2005 (70 FR 18282, April 11, 2005), the Director of the Federal Register approved the incorporation by reference of Dassault Alert Service Bulletin F10-A312, dated February 25, 2005.

ADDRESSES: You may examine the AD docket on the Internet at http://dms.dot.gov or in person at the U.S. Department of Transportation, Docket Operations, M-30, West Building Ground Floor, Room W12-140, 1200 New Jersey Avenue, SE., Washington, DC.

Contact Dassault Falcon Jet, P.O. Box 2000, South Hackensack, New Jersey 07606, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that supersedes AD 2005-18-14, amendment 39-14254 (70 FR 53540, September 9, 2005). The existing AD applies to all Avions Marcel Dassault-Breguet Model Falcon 10 airplanes. That NPRM was published in the Federal Register on April 24, 2007 (72 FR 20293). That NPRM proposed to retain the existing requirements: Either revising the airplane flight manual (AFM) and installing a placard in the flight deck to prohibit flight into known or forecasted icing conditions, or repetitively inspecting for delamination of certain flexible hoses in the wing (slat) anti-icing system and doing corrective actions if necessary. That NPRM also proposed to mandate the previously optional terminating action for the repetitive inspection requirements.

Comments

We provided the public the opportunity to participate in the development of this AD. We have considered the comment that has been received on the NPRM.

Request To Revise Paragraph (l) of the NPRM

The commenter, Dassault, notes an error in paragraph (l) of the NPRM. As proposed, paragraph (l) referred to credit allowed for a hose replaced before the effective date “of this service bulletin,” but should have referred to the effective date “of this AD.” We agree and have corrected this inadvertent error in this final rule.

Additional Changes to Final Rule

We have revised this action to clarify the appropriate procedure for notifying the principal inspector before using any approved alternative method of compliance (AMOC) on any airplane to which the AMOC applies.

In retaining the language from the existing AD, we inadvertently also restated an error in Note 3, which referred to “paragraph (j)(1).” There is no subparagraph in paragraph (j). We have revised Note 3 in this final rule to refer to “paragraph (j).”

The NPRM restated paragraphs (h) and (j) from AD 2005-18-14. References to the effective date of this AD should be the effective date of AD 2005-18-14. These references have been clarified in the final rule.

Conclusion

We have carefully reviewed the available data, including the comment that has been received, and determined that air safety and the public interest require adopting the AD with the changes described previously. We have determined that these changes will neither increase the economic burden on any operator nor increase the scope of the AD.

Costs of Compliance

The following table provides the estimated costs for U.S. operators to comply with this AD, at an average hourly labor rate of $80.

Estimated Costs
Action | Work hours | Parts | Cost per airplane | Number of U.S.-registered airplanes | Fleet cost
AFM revision and placard installation (an option in AD 2005-18-14) | 1 | $0 | $80 | Up to 146 | Up to $11,680.
Detailed inspection (an option in AD 2005-18-14) | 1 | 0 | $80, per inspection cycle | Up to 146 | Up to $11,680, per inspection cycle.
Borescope inspection (an option in AD 2005-18-14) | 3 | 0 | $240, per inspection cycle | Up to 146 | Up to $35,040, per inspection cycle.
Hose replacement (new action) | 8 | 880 | $1,520 | Up to 146 | Up to $221,920.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14254 (70 FR 53540, September 9, 2005) and by adding the following new airworthiness directive (AD):

2007-18-08 Avions Marcel Dassault-Breguet Aviation (AMD/BA): Amendment 39-15188. Docket No. FAA-2007-27983; Directorate Identifier 2006-NM-192-AD.

Effective Date

(a) This AD becomes effective October 11, 2007.

Affected ADs

(b) This AD supersedes AD 2005-18-14.

Applicability

(c) This AD applies to all Avions Marcel Dassault-Breguet Model Falcon 10 airplanes.

Unsafe Condition

(d) This AD results from a report of in-service delamination of a flexible hose in the slat anti-icing system at a time earlier than previously reported. We are issuing this AD to prevent collapse of the flexible hoses in the slat anti-icing system, which could lead to insufficient anti-icing capability and, if icing is encountered in this situation, could result in reduced controllability of the airplane.

Compliance

(e) You are responsible for having the actions required by this AD performed within the compliance times specified, unless the actions have already been done.

Restatement of the Requirements of AD 2005-18-14

Repetitive Detailed Inspections, or Airplane Flight Manual (AFM) Revision and Placard Installation

(f) Within 14 days after April 26, 2005 (the effective date of AD 2005-07-23, which was superseded by AD 2005-18-14), perform the actions specified in either paragraph (f)(1) or (f)(2) of this AD:

(1) Revise the Limitations section of the Dassault Aviation Falcon 10 AFM, and install a placard in the flight deck, to include the following information.

“Flights into known or forecasted icing conditions are prohibited.”

The AFM revision may be done by inserting a copy of this AD into the AFM. Install the placard on the pedestal in clear view of the pilot.

(2) Determine the part number of each flexible hose installed in the slat anti-icing system, perform a detailed inspection of the internal walls of the hoses for delamination, and perform any applicable corrective action, by accomplishing all of the applicable actions specified in the Accomplishment Instructions of Dassault Alert Service Bulletin F10-A312, dated February 25, 2005. If the part number for any hose cannot be determined, before further flight, replace that hose with a hose having part number (P/N) FAL1005D. Any corrective action must be done before further flight. Repeat the detailed inspection thereafter at intervals not to exceed 60 flight cycles or 3 months, whichever is first, until the actions required by paragraph (i) of this AD are accomplished.

Note 1: When a statement identical to that in paragraph (f)(1) of this AD has been included in the general revision of the AFM, the general revision may be inserted into the AFM, and the copy of this AD may be removed from the AFM.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) For airplanes on which the actions described in paragraph (f)(1) of this AD are performed, doing the actions described in paragraph (f)(2) of this AD is terminating action for the requirements of paragraph (f)(1) of this AD. Once the initial detailed inspection specified in paragraph (f)(2) of this AD is performed, the AFM limitation and placard required by paragraph (f)(1) of this AD may be removed.

Borescope Inspections

(h) For airplanes not operated under the limitation in paragraph (f)(1) of this AD: Before the next 10 flight cycles in which the slat anti-icing system is activated after September 26, 2005 (the effective date of AD 2005-18-14), do a borescope inspection of each flexible hose installed in the slat anti-icing system. Do all the inspections and any applicable corrective action (including replacing the hose with a new hose having P/N FAL1005D), by accomplishing all of the applicable actions specified in the Accomplishment Instructions of Dassault Alert Service Bulletin F10-A312, Revision 1, dated June 27, 2005. Any corrective action must be done before further flight. Repeat the inspection thereafter at intervals not to exceed 10 flight cycles in which the slat anti-icing system is activated. Doing this inspection terminates the repetitive inspection requirements of paragraph (f)(2) of this AD.

(i) For airplanes on which the actions described in paragraph (f)(1) of this AD are performed, doing the actions described in paragraph (h) of this AD is terminating action for the requirements of paragraph (f)(1) of this AD. Once the initial borescope inspection specified in paragraph (h) of this AD is performed, the AFM limitation and placard required by paragraph (f)(1) of this AD may be removed.

AFM Revision

(j) For airplanes not operated under the limitation in paragraph (f)(1) of this AD: Before further flight after September 26, 2005, revise the Limitations section of the Dassault Aviation Falcon 10 AFM, to include the following information.

“After each flight in which the slat anti-ice system is activated, inform maintenance.”

The AFM revision may be done by inserting a copy of this AD into the AFM.

Note 3: When a statement identical to that in paragraph (j) of this AD has been included in the general revision of the AFM, the general revision may be inserted into the AFM, and the copy of this AD may be removed from the AFM.

New Requirements of This AD

Hose Replacement

(k) Within 330 flight hours or 7 months after the effective date of this AD, whichever occurs first: Replace the flexible hoses installed in the slat anti-icing system with new hoses having P/N FAL1007, in accordance with the Accomplishment Instructions of Dassault Service Bulletin F10-313, Revision 1, dated May 10, 2006. This replacement terminates the requirements of paragraphs (f) through (j) of this AD. For airplanes previously operated under the limitation in paragraph (f)(1) of this AD: When the hoses have been replaced, the AFM limitation and placard required by paragraph (f)(1) of this AD may be removed. Repeat the hose replacement at intervals not to exceed 700 flight cycles.

(l) Replacement of a hose before the effective date of this AD in accordance with Dassault Service Bulletin F10-313, dated August 10, 2005, is acceptable for compliance with the requirements of paragraph (k) of this AD.

Alternative Methods of Compliance (AMOCs)

(m)(1) The Manager, International Branch, ANM-116, FAA, has the authority to approve AMOCs for this AD, if requested in accordance with the procedures found in 14 CFR 39.19.

(2) To request a different method of compliance or different compliance time for this AD, follow the procedures in 14 CFR 39.19. Before using any approved AMOC on any airplane to which the AMOC applies, notify your appropriate principal inspector (PI) in the FAA Flight Standards District Office (FSDO), or lacking a PI, your local FSDO.

(3) An AMOC approved previously in accordance with AD 2005-18-14 is approved as an AMOC for the corresponding provisions of this AD.

Related Information

(n) European Aviation Safety Agency airworthiness directive 2006-0114, dated May 10, 2006, also addresses the subject of this AD.

Material Incorporated by Reference

(o) You must use the service bulletins identified in Table 1 of this AD to perform the actions that are required by this AD, unless the AD specifies otherwise.

(1) The Director of the Federal Register approved the incorporation by reference of Dassault Service Bulletin F10-313, Revision 1, dated May 10, 2006, in accordance with 5 U.S.C. 552(a) and 1 CFR part 51.

(2) On September 26, 2005 (70 FR 53540, September 9, 2005), the Director of the Federal Register approved the incorporation by reference of Dassault Alert Service Bulletin F10-A312, Revision 1, dated June 27, 2005, including the Service Bulletins Compliance Card.

(3) On April 26, 2005 (70 FR 18282, April 11, 2005), the Director of the Federal Register approved the incorporation by reference of Dassault Alert Service Bulletin F10-A312, dated February 25, 2005, including the Service Bulletins Compliance Card.

(4) Contact Dassault Falcon Jet, P.O. Box 2000, South Hackensack, New Jersey 07606, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Table 1.—Service Information Incorporated by Reference
Service Bulletin | Revision level | Date
Dassault Alert Service Bulletin F10-A312, including the Service Bulletins Compliance Card | Original | February 25, 2005.
Dassault Alert Service Bulletin F10-A312, including the Service Bulletins Compliance Card | Revision 1 | June 27, 2005.
Dassault Service Bulletin F10-313 | Revision 1 | May 10, 2006.

Issued in Renton, Washington, on August 17, 2007.
Ali Bahrami,
Manager, Transport Airplane Directorate, Aircraft Certification Service.

[FR Doc. E7-17288 Filed 9-5-07; 8:45 am]

BILLING CODE 4910-13-P